DEPARTMENT OF VETERANS AFFAIRS

[OMB Control No. 2900-0156]

Agency Information Collection (Notice of Change in Student Status) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before February 25, 2009.

ADDRESSES: Submit written comments on the collection of information through http://www.Regulations.gov or to VA's OMB Desk Officer, OMB Human Resources and Housing Branch, New Executive Office Building, Room 10235, Washington, DC 20503, (202) 395-7316. Please refer to “OMB Control No. 2900-0156” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@va.gov. Please refer to “OMB Control No. 2900-0156.”

SUPPLEMENTARY INFORMATION: Titles: Notice of Change in Student Status (Under Chapter 30, 32, or 35, Title 38 U.S.C; Chapters 1606 and 1607, Title 10 U.S.C.; or Section 901 and 903 of Public Law 96-342; the National Call to Service Provision of Public Law 107-314; the “Transfer of Entitlement” Provision of Public Law 107-107; and the Omnibus Diplomatic Security and Antiterrorism Act of 1986), VA Form 22-1999b.

OMB Control Number: 2900-0156.

Type of Review: Extension of a currently approved collection.

Abstract: Educational institutions use VA Form 22-1999b to report a student's enrollment status. Benefits are not payable when the student interrupts or terminates a program. VA uses the information to determine the student's continued entitlement to educational benefits or if the benefits should be increased, decreased, or terminated.

An agency may not conduct or sponsor, and a person is not required to respond to a collection of information unless it displays a currently valid OMB control number. The Federal Register Notice with a 60-day comment period soliciting comments on this collection of information was published on November 12, 2008, at page 66960.

Affected Public: Business or other for-profit, and Not-for-profit institutions.

Estimated Annual Burden: 51,667 hours.

a. VA Form 22-1999b (Paper Copy)—16,667 hours.

b. VA Form 22-1999b (Electronically Filed)—35,000 hours.

Estimated Average Burden Per Respondent:

a. VA Form 22-1999b (Paper Copy)—10 minutes.

b. VA Form 22-1999b (Electronically Filed)—7 minutes.

Frequency of Response: On occasion.

Estimated Number of Respondents: 8,500.

Estimated Total Number of Responses Annually: 400,000.

a. VA Form 22-1999b (Paper Copy)—100,000.

b. VA Form 22-1999b (Electronically Filed)—300,000.

Dated: January 13, 2009.
By direction of the Secretary.
Denise McLamb,
Program Analyst, Enterprise Records Service.

[FR Doc. E9-1582 Filed 1-23-09; 8:45 am]

BILLING CODE 8320-01-P